DEPARTMENT OF THE INTERIOR

Fish and Wildlife Service

Information Collection To Be Submitted to the Office of Management and Budget (OMB) for Approval Under the Paperwork Reduction Act; Fish and Wildlife Service Employee Exit Follow-Up Survey (1018-0112)

AGENCY: Fish and Wildlife Service, Interior.

ACTION: Notice; request for comments.

SUMMARY: The Fish and Wildlife Service (we/our) will submit the collection of information listed below to OMB for approval under the provisions of the Paperwork Reduction Act. A description of the information collection requirement is included in this notice. If you wish to obtain copies of the proposed information collection requirement, related forms, or explanatory material, contact the Service Information Collection Clearance Officer at the address listed below.

DATES: You must submit comments on or before October 5, 2004.

ADDRESSES: Send your comments on the requirement to Hope Grey, Information Collection Clearance Officer, Fish and Wildlife Service, MS 222-ARLSQ, 4401 N. Fairfax Drive, Arlington, VA 22203; Hope_Grey@fws.gov (e-mail); or (703) 358-2269 (fax).

FOR FURTHER INFORMATION CONTACT: To request a copy of the information collection request, explanatory information, or related forms, contact Hope Grey at (703) 358-2482 or e-mail Hope_Grey@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We plan to submit a request to OMB to renew approval of the collection of information for the Employee Exit Follow-Up Survey. We are requesting a 3-year term of approval for this information collection activity.

Federal agencies may not conduct or sponsor and a person is not required to respond to a collection of information unless it displays a currently valid OMB control number. The OMB control number for this collection of information is 1018-0112.

The Fish and Wildlife Service is the principal Federal agency responsible for conserving, protecting, and enhancing fish, wildlife, and plants and their habitats for the continuing benefit of the American people. We manage the 95-million-acre National Wildlife Refuge System, which encompasses 542 national wildlife refuges, thousands of small wetlands and other special management areas. We also operate 69 national fish hatcheries, 64 fishery resource offices, and 81 ecological services field stations. We enforce Federal wildlife laws, administer the Endangered Species Act, manage migratory bird populations, restore nationally significant fisheries, conserve and restore wildlife habitat such as wetlands, and help foreign governments with their conservation efforts. We also oversee the Federal Assistance program that distributes hundreds of millions of dollars in excise taxes on fishing and hunting equipment to State fish and wildlife agencies. We have made it a high priority to recruit and retain valued employees to accomplish these responsibilities. As part of an active career development program, we have instituted an Employee Exit Follow-Up survey to collect feedback from former Fish and Wildlife Service employees so that we may discover relevant issues that impact retention. If this survey were not used, there would be no way we could analyze the reasons for employee separation.

During the past three years that we have used this survey, we received comments from several respondents. These comments ranged from gratitude that we collect this information to skepticism that the survey would result in any workplace changes. There were three comments that addressed specific aspects of the survey. The first commenter noted that questions 12, 16, 17, and 18 were particularly difficult to answer. The second commenter expressed concern that, because the survey required the respondent's job title and Region, anyone looking at the completed survey would know who had written it. The third commenter raised the issue that the survey questions did not adequately capture the problems that would cause an office to have a high attrition rate. We have not made any changes to the survey in response to these comments. Regarding the first commenter's suggestion, the commenter found the questions difficult because of feelings towards the organization's management, not because of the questions themselves. The second commenter's concern did not result in a change to the survey question because the reported results are aggregated and not personally identifiable. Finally, regarding the third comment, the reported results are giving us valuable insight into the reasons why employees are separating from the Fish and Wildlife Service.

Title of Collection: Employee Exit Follow-Up Survey, authorized by the Merit System Principles (5 U.S.C. 2301).

OMB Control Number: 1018-0112.

Form Number: FWS 3-2186.

Frequency of Collection: Annually.

Description of Respondents: Former Fish and Wildlife Service employees.

Total Annual Burden Hours: 100 hours. The reporting burden is estimated to average 15 minutes per respondent.

Total Annual Responses: About 400 individuals are expected to participate in the survey annually.

We invite comments concerning this submission on: (1) Whether or not the collection of information is necessary for the proper performance of our career development functions, including whether or not the information will have practical utility; (2) the accuracy of our estimate of the burden of the collection of information; (3) ways to enhance the quality, utility, and clarity of the information to be collected; and, (4) ways to minimize the burden of the collection of information on respondents. The information collections in this program are part of a system of records covered by the Privacy Act (5 U.S.C. 552(a)).

Dated: July 30, 2004.
Hope Grey,
Service Information Collection Clearance Officer.

[FR Doc. 04-17957 Filed 8-5-04; 8:45 am]

BILLING CODE 4310-55-P